FEDERAL COMMUNICATIONS COMMISSION

Notice of Public Information Collection(s) Being Submitted to OMB for Review and Approval

April 24, 2001.

SUMMARY: The Federal Communications Commissions, as part of its continuing effort to reduce paperwork burden invites the general public and other Federal agencies to take this opportunity to comment on the following information collection, as required by the Paperwork Reduction Act of 1995, Public Law 104-13. An agency may not conduct or sponsor a collection of information unless it displays a currently valid control number. No person shall be subject to any penalty for failing to comply with a collection of information subject to the Paperwork Reduction Act (PRA) that does not display a valid control number. Comments are requested concerning (a) whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written comments should be submitted on or before May 30, 2001. If you anticipate that you will be submitting comments, but find it difficult to do so within the period of time allowed by this notice, you should advise the contact listed below as soon as possible.

ADDRESSES: Direct all comments to Les Smith, Federal Communications Commission, Room 1-A804, 445 12th Street, SW., Washington, DC 20554 or via the Internet to lesmith@fcc.gov.

FOR FURTHER INFORMATION CONTACT: For additional information or copies of the information collections contact Les Smith at (202) 418-0217 or via the Internet at lesmith@fcc.gov.

SUPPLEMENTARY INFORMATION: OMB Control Number: 3060-XXXX.

Title: Implementation of the Satellite Home View Improvement Act, Broadcast Signal Carriage Issues, Retransmission Consent Issues, CS Docket Nos. 00-96 and 99-363.

Form Number: N/A.

Type of Review: New collection.

Respondents: Businesses or other for-profit entities.

Number of Respondents: 452.

Estimated Time per Response: 1 to 5 hrs.

Frequency of Response: On occasion reporting requirement.

Total Annual Burden: 2,700 hrs.

Total Annual Costs: $90,000.

Needs and Uses: Congress directed the FCC to adopt regulations that apply broadcast signal carriage requirements to satellite carriers pursuant to the changes outlined in the Satellite Home Viewer Improvement Act of 1999. The availability of such information is to inform the public of the method of broadcast signal carriage. In addition, the information is needed so that local broadcast stations can assert their carriage rights within their local markets.

OMB Control Number: 3060-XXXX.

Title: 1998 Biennial Review—Streamlining of Cable Television Services Part 76 Public File and Notice Requirements.

Form Number: N/A.

Type of Review: New collection.

Respondents: Businesses or other for-profit entities; State, local, or tribal government.

Number of Respondents: 10,800.

Estimated Time per Response: 30 mins. to 3 hrs.

Frequency of Response: Recordkeeping; On occasion, semi-annual, and annual reporting requirements; Third party disclosure.

Total Annual Burden: 43,200 hrs.

Total Annual Costs: None.

Needs and Uses: Pursuant to Section 631 of the Communications Act, as amended, 47 U.S.C. 551, upon subscribing to cable or other services, and at least once a year thereafter, a cable operator shall provide a separate, written statement to the subscriber informing the subscriber of: (a) The personally identifiable information to be collected about them; (b) the nature, frequency, and purpose of any disclosure and to whom the disclosure may be made; (c) the period during which such information will be maintained by the cable operator; (d) the times and places at which the subscriber may have access to such information in accordance with Section 631(d); (e) the limitations provided by Section 631 with respect to the collection and disclosure of information by a cable operator; and (f) the right of the subscriber under Sections 631(f) and 631(h) to enforce such limitations. The Report and Order also amends the Commission's cable television rules so that: (1) This subscriber notice is now referenced at the end of various new rule sections; and (2) this filing is now referenced at the end of new 47 CFR 76.1800 pursuant to the Copyright Act, 17 U.S.C. 111(d)(1), which requires cable operators to file, semi-annually, a statement of account with the Licensing Division of the Copyright Office, Library of Congress.

Federal Communications Commission.
Magalie Roman Salas,
Secretary.

[FR Doc. 01-10628 Filed 4-27-01; 8:45 am]

BILLING CODE 6712-01-P